DEPARTMENT OF HEALTH AND HUMAN SERVICES

Centers for Disease Control and Prevention

[60Day-03-94]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: National Nursing Home Survey (NNHS) 2004-2007 (OMB No. 0920-0353)—Revision—National Center for Health Statistics (NCHS), Centers for Disease Control and Prevention (CDC).

Section 306 of the Public Health Service Act states that the National Center for Health Statistics “shall collect statistics on health resources * * * [and] utilization of health care, including utilization of * * * services of hospitals, extended care facilities, home health agencies, and other institutions.” The data system responsible for collecting this data is the National Health Care Survey (NHCS). The National Nursing Home Survey (NNHS) is part of the Long-term Care Component of the NHCS. The NNHS was conducted in 1973-74, 1977, 1985, 1995, 1997, and 1999. NNHS data describe a major segment of the long-term care system and are used extensively for health care research, health planning and public policy. NNHS provides data on the characteristics of nursing homes (e.g. Medicare and Medicaid certification, ownership, membership in chains/HMO/hospital systems), residents (e.g. demographics, functional status, services received, diagnoses, sources of payment), and staff (e.g. staffing mix, turnover, benefits, training, education). The survey provides detailed information on utilization and staffing patterns, and quality of care variables that is needed in order to make accurate assessments of the need for and effects of changes in the provision and financing of long-term care for the elderly. The availability and use of long-term care services are becoming an increasingly important issue as the number of elderly increases and persons with disabilities live longer. Equally as important is ensuring the adequacy and availability of the long-term care workforce. Data from the NNHS have been used by federal agencies, professional organizations, private industry, and the media.

NCHS plans to conduct the next NNHS in March-June 2004 with a repeat of the survey in 2006. This national survey follows a pretest of forms and procedures conducted in June-July 2003. The data collection forms and procedures have been extensively revised from the previous NNHS. The 2004 NNHS will be based on computer-assisted personal interview (CAPI) and computer-assisted telephone interview (CATI) methodologies. The total cost to respondents is their time to complete the survey.

Respondents | No. of respondents | No. of responses per respondent | Average burden per responses (in hrs.) | Total burden (in hrs.)
Facility Questionnaire | 3,000 | 1 | 20/60 | 1,000
Nursing Home Staff Questionnaire | 3,000 | 1 | 2.5 | 7,500
Current/Discharge Resident Sampling List | 3,000 | 1 | 20/60 | 1,000
Current Resident Questionnaire | 3,000 | 8 | 25/60 | 10,000
Discharged Resident Questionnaire | 3,000 | 8 | 25/60 | 10,000
Direct Care Worker Sampling List | 3,000 | 1 | 10/60 | 500
Direct Care Worker Questionnaire | 1,800 | 4 | 30/60 | 3,600
Total |  |  |  | 33,600

Dated: July 9, 2003.
Thomas A. Bartenfeld,
Acting Associate Director for Policy, Planning and Evaluation, Centers for Disease Control and Prevention.

[FR Doc. 03-17812 Filed 7-14-03; 8:45 am]

BILLING CODE 4163-18-P